DEPARTMENT OF ENERGY

Federal Energy Regulatory Commission

Combined Notice of Filings

Take notice that the Commission has received the following Natural Gas Pipeline Rate and Refund Report filings:

Filings Institute Proceedings

Docket Number: PR18-23-000.

Applicants: Enstor Katy Storage and Transportation, L.P.

Description: Tariff filing per 284.123(b),(e)/: Resubmission of Revised Enstor Katy SOC to be effective 1/10/2018.

Filed Date: 1/11/18.

Accession Number: 20180111¬5000.

Comments/Protests Due: 5 p.m. ET 2/1/18.

Docket Number: PR18-24-000.

Applicants: Enstor Grama Ridge Storage and Transportation, L.L.C.

Description: Tariff filing per 284.123(b),(e)/: Resubmission of Revised Enstor Grama SOC to be effective 1/10/2018.

Filed Date: 1/11/18.

Accession Number: 20180111¬5001.

Comments/Protests Due: 5 p.m. ET 2/1/18.

Docket Number: RP18-344-000.

Applicants: Rockies Express Pipeline LLC.

Description: Tariff filing per 154.204 Neg Rate 2018-01-11 ARM perm CR to be effective 1/12/18.

Filed Date: 1/11/18.

Accession Number: 20180111-5155.

Comments Due: 5 p.m. ET 1/23/18.

Docket Number: RP18-260-001.

Applicants: Eastern Shore Natural Gas Company.

Description: Tariff filing per 154.203: Amended Filing to Comply in CP17-28-000 Negotiated Rate and Non-Conforming SAs to be effective 12/14/2017 under RP18-260.

Filed Date: 1/11/18.

Accession Number: 20180111-5145.

Comments Due: 5 p.m. ET 1/23/18.

Docket Number: RP17-346-002.

Applicants: Northwest Pipeline LLC.

Description: Compliance Filing Rate case Settlement.

Filed Date: 01/3/18.

Accession Number: 201801035130.

Comments Due: 5 p.m. ET 1/25/18.

Docket Numbers: RP18-355-000.

Applicants: Guardian Pipeline, L.L.C.

Description: § 4(d) Rate Filing: Negotiated Rate PAL Agreement—MIECO to be effective 1/17/2018.

Filed Date: 1/17/18.

Accession Number: 20180117-5066.

Comments Due: 5 p.m. ET 1/29/18.

Docket Numbers: RP18-356-000.

Applicants: Trailblazer Pipeline Company LLC.

Description: § 4(d) Rate Filing: Neg Rate 2018-01-17 Mieco PALS to be effective 1/17/2018.

Filed Date: 1/17/18.

Accession Number: 20180117-5098.

Comments Due: 5 p.m. ET 1/29/18.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 18, 2018.
Nathaniel J. Davis, Sr.,
Deputy Secretary.

[FR Doc. 2018-01249 Filed 1-23-18; 8:45 am]

BILLING CODE 6717-01-P